DEPARTMENT OF COMMERCE

International Trade Administration

[A-533-838]

Carbazole Violet Pigment 23 From India: Rescission of Antidumping Duty Administrative Review; 2021-2022

AGENCY: Enforcement and Compliance, International Trade Administration, Department of Commerce.

SUMMARY: The U.S. Department of Commerce (Commerce) is rescinding the administrative review of the antidumping duty order on carbazole violet pigment 23 from India for the period of review (POR) December 1, 2021, through November 30, 2022, based on the timely withdrawal of the request for review and evidence of no suspended entries during the POR.

DATES: Applicable May 9, 2023.

FOR FURTHER INFORMATION CONTACT: Dennis McClure or Henry Wolfe, AD/CVD Operations, Office VIII, Enforcement and Compliance, International Trade Administration, U.S. Department of Commerce, 1401 Constitution Avenue NW, Washington, DC 20230; telephone: (202) 482-5973 or (202) 482-0574, respectively.

SUPPLEMENTARY INFORMATION:

Background

On December 1, Commerce published in the Federal Register a notice of opportunity to request an administrative review of the order on carbazole violet pigment 23 from India.¹ On December 22, 2022, Meghmani LLP, an exporter of subject merchandise, and Meghmani Pigments, an importer of subject merchandise, (collectively Meghmani) requested an administrative review of the order for the POR.² On December 30, 2022, Navpad Pigments Pvt. Ltd. (Navpad), a producer and exporter of the subject merchandise, requested an administrative review of the order for the POR.³ Pursuant to these requests, Commerce initiated an administrative review with respect to Meghmani and Navpad, in accordance with section 751(a) of the Tariff Act of 1930, as amended (the Act).⁴ On February 6, 2023, we placed U.S. Customs and Border Protection (CBP) data on the record indicating that Navpad had no entries of subject merchandise during the POR, and permitting parties to comment on the data.⁵ On February 15, 2023, Navpad submitted comments on the CBP data placed on the record.⁶ On March 8, 2023, Meghmani timely withdrew its request for the review.⁷ No other party requested an administrative review of Meghmani. On March 13, 2023, we issued a memorandum notifying the parties of our intention to rescind the administrative review with respect on Navpad based on the fact that it had no suspended entries during the POR.⁸ On March 20, 2023, Navpad submitted comments objecting to our rescission intention with respect to it.⁹

¹ See Antidumping or Countervailing Duty Order, Finding, or Suspended Investigation; Opportunity to Request Administrative Review, 87 FR 73752 (December 1, 2022).

² See Meghmani's Letter, “Request for Administrative Review,” dated December 2, 2022.

³ See Navpad's Letter, “Antidumping Duty Administrative Review Request,” dated December 30, 2022.

⁴ See Initiation of Antidumping and Countervailing Duty Administrative Reviews, 88 FR 7060 (February 2, 2023).

⁵ See Memorandum, “Customs and Border Protection Data for Respondent Selection,” dated February 6, 2023.

⁶ See Navpad's Letter, “Comments on CBP Data and Respondent Selection,” dated February 15, 2023.

⁷ See Meghmani's Letter, “Withdrawal of Request for Administrative Review,” dated March 8, 2023.

⁸ See Memorandum, “Intent to Rescind Review,” dated March 13, 2023 (Intent to Rescind Memorandum).

⁹ See Navpad's Letter, “Comments in Notice of Intent to Rescind,” dated March 20, 2023.

Scope of the Order

The products covered by the order are carbazole violet pigment 23. For a complete description of the scope of the order, see the Issues and Decision Memorandum.¹⁰

¹⁰ See Memorandum, “Issues and Decision Memorandum for the Rescission of the Antidumping Duty Administrative Review: Carbazole Violet Pigment 23 from India; 2021-2022,” dated concurrently with, and hereby adopted by, this notice (Issues and Decision Memorandum).

Analysis of Comments Received

Commerce addressed the issue raised in response to its Intent to Rescind Memorandum in the Issues and Decision Memorandum. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Rescission of Administrative Review

Pursuant to 19 CFR 351.213(d)(1), Commerce will rescind an administrative review, in whole or in part, if the party that requested a review withdraws its request within 90 days of the date of publication of the notice of initiation. As stated above, Meghmani withdrew its request for an administrative review by the established 90-day deadline and there were no other requests for review of Meghmani.

Additionally, pursuant to 19 CFR 351.213(d)(3), Commerce will rescind an administrative review, in whole or only with respect to a particular exporter or producer, if the Secretary concludes that, during the period covered by the review, there were no entries, exports, or sales of the subject merchandise, as the case may be. Normally, upon completion of an administrative review, the suspended entries are liquidated at the antidumping duty assessment rate for the review period.¹¹ Therefore, for an administrative review to be conducted, there must be a reviewable, suspended entry that Commerce can instruct U.S. Customs and Border Protection (CBP) to liquidate at the calculated antidumping duty assessment rate for the review period. As noted above, there were no suspended entries of subject merchandise from Navpad during the POR for Commerce to review.

¹¹ See 19 CFR 351.212(b)(1).

Based on the foregoing facts, Commerce is rescinding this review in its entirety for Meghmani and Navpad, in accordance with 19 CFR 351.213(d)(1) and (3), respectively.

Cash Deposit Requirements

As Commerce has proceeded to a final rescission of this administrative review, no cash deposit rates will change. Accordingly, the current cash deposit requirements shall remain in effect until further notice.

Assessment

Commerce will instruct CBP to assess antidumping duties on all appropriate entries at rates equal to the cash deposit of estimated antidumping duties required at the time of entry, or withdrawal from warehouse, for consumption, during the period December 1, 2021, through November 30, 2022, in accordance with 19 CFR 351.212(c)(1)(i). Commerce intends to issue assessment instructions to CBP no earlier than 35 days after publication of this notice in the Federal Register.

Notification to Importers

This notice serves as the only reminder to importers of their responsibility under 19 CFR 351.402(f)(2) to file a certificate regarding the reimbursement of antidumping duties and/or countervailing duties prior to liquidation of the relevant entries during the review period. Failure to comply with this requirement could result in the presumption that reimbursement of antidumping duties and/or countervailing duties occurred and the subsequent assessment of doubled antidumping duties, and/or an increase in the amount of antidumping duties by the amount of the countervailing duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation which is subject to sanction.

Notification to Interested Parties

This notice is issued and published in accordance with sections 751(a)(1) and 777(i)(l) of the Act, and 19 CFR 351.213(d)(4).

Dated: May 3, 2023.
James Maeder,
Deputy Assistant Secretary for Antidumping and Countervailing Duty Operations.

Appendix—List of Topics Discussed in the Issues and Decision Memorandum

I. Summary

II. Background

III. Scope of the Order

IV. Discussion of the Issue

Comment: Rescission of the Administrative Review

V. Recommendation

[FR Doc. 2023-09796 Filed 5-8-23; 8:45 am]

BILLING CODE 3510-DS-P